DEPARTMENT OF AGRICULTURE

Forest Service

Boundary Establishment for Snake River Headwaters National Wild and Scenic River, Bridger-Teton National Forest, Jackson County, Wyoming

AGENCY: Forest Service, USDA.

ACTION: Notice of availability.

SUMMARY: In accordance with Section 3(b) of the Wild and Scenic Rivers Act, the USDA, Forest Service, Washington Office, is transmitting the final boundary to Congress for the Snake River Headwaters National Wild and Scenic River segments administered by the Secretary of Agriculture (acting through the Chief of the Forest Service).

FOR FURTHER INFORMATION CONTACT: Information may be obtained by contacting David Cernicek at David.cernicek@usda.gov or 307-413-2010, or the Bridger-Teton National Forest Supervisor's Office at (307) 739-5500, or https://www.fs.usda.gov/contactus/btnf/about-forest/contactus.

SUPPLEMENTARY INFORMATION: The Snake River Headwaters Wild and Scenic River boundary description and map are available for review at https://www.fs.usda.gov/detail/btnf/specialplaces/?cid=stelprdb5281115.

Due to COVID-19 health and safety protocols to protect employees and visitors, many Forest Service offices are closed to the public. The Snake River Headwaters Wild and Scenic River boundary description and maps are available for review at the following offices, if arrangements are made in advance: USDA, Forest Service, Yates Building, 14th and Independence Avenue SW, Washington, DC 20024, phone (800) 832-1355; Intermountain Regional Office, Federal Building, 324 25th Street, Ogden, UT 84401, phone (801) 625-5605; and Bridger-Teton National Forest Supervisor's Office, 340 N. Cache Ave, Jackson, WY 83001, phone (307) 739-5500. Please contact the appropriate office prior to arrival.

The Craig Thomas Snake Headwaters Legacy Act of 2008, passed as part of Public Law 111-11 of March 30, 2009, designated Snake River Headwaters, Wyoming, as a National Wild and Scenic River with certain segments to be administered by the Secretary of Agriculture. As specified by law, the boundary will not be effective until ninety days after Congress receives the transmittal.

Dated: June 11, 2021.
Barnie Gyant,
Associate Deputy Chief, National Forest System.

[FR Doc. 2021-13427 Filed 6-23-21; 8:45 am]

BILLING CODE 3411-15-P